FEDERAL TRADE COMMISSION

Granting of Request for Early Termination of the Waiting Period Under the Premerger Notification Rules

Section 7A of the Clayton Act, 15 U.S.C. 18a, as added by Title II of the Hart-ScottRodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
November 1, 2012 Thru November 30, 2012
11/01/2012
20130085 | G | Curtiss-Wright Corporation; Linx Partners II, L.P.; Curtiss-Wright Corporation.
20130086 | G | Bain Capital Fund X, L.P.; Danaher Corporation; Bain Capital Fund X, L.P.
20130088 | G | Bain Capital Fund X, L.P.; Cooper Industries PLC; Bain Capital Fund X, L.P.
11/02/2012
20130029 | G | Value Act Capital Master Fund, L.P.; Rockwell Collins, Inc.; Value Act Capital Master Fund, L.P.
20130039 | G | Corvex Master Fund LP; The ADT Corporation; Corvex Master Fund LP.
20130076 | G | Green Equity Investors V, L.P.; J.W. Childs Equity Partners III, L.P.; Green Equity Investors V, L.P.
20130087 | G | CRH plc; Trap Rock Industries LLC; CRH plc.
11/05/2012
20130073 | G | ITOCHU Corporation; David H. Murdock; ITOCHU Corporation.
20130092 | G | Mitsubishi UFJ Lease & Finance Company Limited; JSA International Holdings, L.P.; Mitsubishi UFJ Lease & Finance Company Limited.
20130093 | G | Koch Industries, Inc.; Advanced BioEnergy, LLC; Koch Industries, Inc.
20130094 | G | Oaktree Power Opportunities Fund III, L.P.; Lindsay Goldberg & Bessemer II L.P.; Oalctree Power Opportunities Fund III, L.P.
20130095 | G | TSG 6 AIV II L.P.; Planet Fitness Holdings, LLC; TSG 6 MV II L.P.
20130097 | G | Dover Corporation; Avista Capital Partners II, L.P.; Dover Corporation.
11/06/2012
20130066 | G | Onex Partners III International LP; MPM Equity II LLC; Onex Partners III International LP.
20130068 | G | International Shipholding Corporation; GS Maritime Holding LLC; International Shipholding Corporation.
20130096 | G | Carlyle Partners V US, L.P.; Carlyle Partners IV Telecommunications, L.P.; Carlyle Partners V US, L.P.
20130105 | G | PensionDanmark Holding A/S; E.ON AG; PensionDanmark Holding A/S.
11/07/2012
20121011 | G | Marubeni Corporation; Gavilon SuperHoldco, LLC; Marubeni Corporation.
20130106 | G | Sentinel Capital Partners IV, L.P.; Rod Hildebrant; Sentinel Capital Partners IV, L.P.
11/08/2012
20130110 | G | Rain Commodities Limited; Triton Fund II LP; Rain Commodities Limited.
11/09/2012
20130082 | G | Pearson plc; EBNT USA Holding Inc.; Pearson plc.
20130111 | G | Marathon Petroleum Corporation; BP p.l.c.; Marathon Petroleum Corporation.
20130113 | G | TowerBrook Investors III, L.P.; Vistage International Inc.; TowerBrook Investors III, L.P.
20130115 | G | The Andersons, Inc.; Green Plains Renewable Energy, Inc.; The Andersons, Inc.
20130120 | G | Energy Trading Innovations LLC; Louis Dreyfus Highridge Energy LLC; Energy Trading Innovations LLC.
20130122 | G | Nihon Kohden Corporation; Defibtech, LLC; Nihon Kohden Corporation.
20130123 | G | CME Group Inc.; The Board of Trade of Kansas City, Missouri, Inc.; CME Group Inc.
20130127 | G | Zep Inc.; Ecolab Inc.; Zep Inc.
20130132 | G | Empeiria Acquisition Corporation; Stephen D. Cope; Empeiria Acquisition Corporation.
20130135 | G | Al Garden BV; Mediq N.V.; Al Garden BV.
20130136 | G | Menasha Corporation; Rand Diversified Companies, LLC; Menasha Corporation.
20130137 | G | Canada Pension Flan Investment Board; Halcon Resources Corporation; Canada Pension Plan Investment Board.
20130139 | G | William Herbert Hunt Trust Estate; Halcon Resources Corporation; William Herbert Hunt Trust Estate.
20130141 | G | Isabella Seragnoli; Odewald & Compagnie GmbH & Co.; Isabella Seragnoli.
20130142 | G | Emeritus Corporation; Kinderhook Capital Fund I, L.P.; Emeritus Corporation.
20130143 | G | Global Generations International Inc.; Ancestry.com Inc.; Global Generations International Inc.
20130145 | G | Audax Private Equity Fund IV, L.P.; John M. Thalheimer; Audax Private Equity Fund IV, L.P.
20130148 | G | Madison Dearborn Capital Partners VI-B, L.P.; Sage Products, Inc.; Madison Dearborn Capital Partners VI-B, L.P.
20130150 | G | Warburg Pincus Private Equity XI, L.P.; Van Trac; Warburg Pincus Private Equity XI, L.P.
11/13/2012
20130063 | G | Johnson & Johnson; Astellas Pharma Inc.; Johnson & Johnson.
20130144 | G | Charles W. Ergen; Cablevision Systems Corporation; Charles W. Ergen.
11/14/2012
20111160 | G | Entergy Corporation; KGen Power Corporation; Entergy Corporation.
20130140 | G | Corinthian Equity Fund, L.P.; Jolley, Castillo, Drennon, Ltd.; Corinthian Equity Fund, L.P.
11/15/2012
20121402 | G | Valeant Pharmaceuticals International, Inc.; Medicis Pharmaceutical Corporation; Valeant Pharmaceuticals nternational, Inc.
20130155 | G | Travel Leaders Group, LLC; Priscilla Alexander; Travel Leaders Group, LLC.
11/16/201
20121161 | G | Star Atlantic Waste Holdings, L.P.; Veolia Environment S.A.; Star Atlantic Waste Holdings, L.P.
11/19/2012
20130089 | G | Merck & Co., Inc.; Santo Holding AG; Merck & Co.; Inc.
20130100 | G | Healthfirst, Inc.; Neighborhood Health Providers, Inc.; Healthfirst, Inc.
20130107 | G | Bain Capital AM Holding, LLC; Patrick J. McDonald; Bain Capital AM Holding, LLC.
20130146 | G | Carl C. Icahn; Netflix, Inc.; Carl C. Icahn.
20130151 | G | Ray Investment S.a.r.l.; Munro Enterprises, LLP; Ray Investment S.a.r.l.
20130153 | G | Berkshire Hathaway Inc.; OTC Worldwide Holdings, Inc.; Berkshire Hathaway Inc.
20130154 | G | The Hearst Family Trust; Milliman, Inc.; The Hearst Family Trust.
20130161 | G | ABRY Partners VII, L.P.; Herbert F. Pardula; ABRY Partners VII, L.P.
20130164 | G | Servco Pacific Inc.; Fender Musical Instruments Corporation; Servco Pacific Inc.
20130169 | G | Li & Fung Limited; Mark Kra; Li & Fung Limited.
20130174 | G | Oaktree Power Opportunities Fund III, L.P.; Shermco Industries, Inc.; Oaktree Power Opportunities Fund III, L.P.
20130178 | G | Alliance Data Systems Corporation; Lake Capital Partners II; Alliance Data Systems Corporation.
11/20/2012
20130172 | G | Copersucar S.A.; Larry Beckwith; Copersucar S.A.
20130173 | G | Ute Energy Holdings LLC; Ute Energy LLC; Ute Energy Holdings LLC.
11/21/2012
20120507 | G | Robert Bosch Industrietreuhand KG; SPX Corporation; Robert Bosch Industrietreuhand KG.
20130180 | G | PolyOne Corporation; Spartech Corporation; PolyOne Corporation.
20130182 | G | New Mountain Partners III, L.P.; JDA Software Group, Inc.; New Mountain Partners III, L.P.
20130185 | G | NuStar Energy L.P.; EIG BlackBrush Holdings, LLC; NuStar Energy L.P.
20130200 | G | Curtiss-Wright Corporation; Williams Controls, Inc.; Curtiss-Wright Corporation.
11/23/2012
20130138 | G | Wolters Kluwer N.V.; Health Language, Inc.; Wolters Kluwer N.V.
20130167 | G | TPG-Axon Partners, LP; SandRidge Energy, Inc.; TPG-Axon Partners, LP.
20130168 | G | TPG-Axon Partners (Offshore), Ltd.; SandRidge Energy, Inc.; TPG-Axon Partners (Offshore), Ltd.
20130187 | G | Calera Capital Partners IV, L.P.; Falconhead Capital Partners II, L.P.; Calera Capital Partners IV, L.P.
20130191 | G | PVH Corp.; The Warnaco Group, Inc.; PVH Corp.
20130193 | G | Mayville Engineering Company, Inc. ESOT; Industrial Opportunity Partners, LP; Mayville Engineering Company, Inc. ESOT.
20130194 | G | William R. Berkley; W.R. Berkley Corporation; William R. Berkley.
20130204 | G | Novacap Industries III, L.P.; Prospect Partners II, L.P.; Novacap Industries III, L.P.
20130212 | G | Publicis Groupe S.A.; LBi International N.V.; Publicis Groupe S.A.
20130219 | G | Stifel Financial Corp.; KBW, Inc.; Stifel Financial Corp.
11/26/2012
20130112 | G | Vantiv, Inc.; Litle Holdings LLC; Vantiv, Inc.
11/27/2012
20130206 | G | Robert E. Rich, Jr.; James Farrell and Catherine Farrell; Robert E. Rich, Jr.
20130210 | G | Starbucks Corporation; Andrew T. Mack; Starbucks Corporation.
20130214 | G | Westerman Interests, Inc.; Enerven Compression LLC; Westerman Interests, Inc.
20130215 | G | The Kroger Co.; Carousel Capital Partners III, L.P.; The Kroger Co.
20130216 | G | Charles Equity Fund VII, Limited Partnership; Gores Capital Partners II, L.P.; Charles Equity Fund VII, Limited Partnership.
20130217 | G | Harbour Group Investments V, L.P.; Wellspring Capital Partners IV, L.P.; Harbour Group Investments V. L.P.
20130221 | G | MidOcean Partners III, L.P.; Nautic Partners V, L.P.; MidOcean Partners III, L.P.
20130228 | G | Robert E. Rich, Jr.; Goglanian Bakeries, Inc.; Robert E. Rich, Jr.
20130229 | G | Reckitt Benckiser Group plc-; Eric Weider; Reckitt Benckiser Group plc.
20130241 | G | Sony Corporation; DIRECTV; Sony Corporation.
11/28/2012
20130121 | G | Inova Health System Foundation; AMERIGROUP Corporation; Inova Health System Foundation.
20130181 | G | Humana Inc.; Metropolitan Health Networks, Inc.; Humana Inc.
20130226 | G | Harborstone Credit Union; Prevail Credit Union; Harborstone Credit Union.
20130250 | G | MTIC Holdings Corp.; West First Management Corp.; MTIC Holdings Corp.
11/29/2012
20130131 | G | University of MD Medical System, Corp.; Catholic Health Initiatives; University of MD Medical System, Corp.
20130156 | G | Warburg Pincus Private Equity X, LP; ESCO Corporation; Warburg Pincus Private Equity X, LP.
20130160 | G | Quad-C Partners VII, L.P.; Micahael Sheldon; Quad-C Partners VII, L.P.
20130162 | G | JLL Partners Fund V, L.P.; Noordbrantse Christelijke Boerenbond; JLL Partners Fund V, L.P.
20130175 | G | Nippon Telegraph and Telephone Corporation; Seaport Capital Partners II, L.P.; Nippon Telegraph and Telephone Corporation.
20130203 | G | Royal DSM N.V.; Fortitech, Inc.; Royal DSM N.V.
20130222 | G | Energy Capital Partners II-A, L.P.; Calpine Corporation; Energy Capital Partners II-A, L.P.
20130230 | G | Harbinger Group Inc.; EXCO/HGI Production Partners, LP; Harbinger Group Inc.
20130232 | G | Charles F. Dolan and Helen A. Dolan; The Madison Square Garden Company; Charles F. Dolan and Helen A. Dolan.
20130237 | G | Gulf Oil Corporation Limited; AEA Investors 2006 Fund L.P.; Gulf Oil Corporation Limited.
20130238 | G | Targa Resources Partners LP; Saddle Butte Pipeline LLC; Targa Resources Partners LP.
20130245 | G | Ocwen Financial Corporation; Residential Capital, LLC; Ocwen Financial Corporation.
11/30/2012
20121152 | G | WellPoint, Inc.; Amerigroup Corporation; WellPoint, Inc.
20130246 | G | Welsh, Carson, Anderson & Stowe IX, L.P.; Baptist General Convention of Texas; Welsh, Carson, Anderson & Stowe IX, L.P.
20130247 | G | Welsh, Carson, Anderson & Stowe IX, L.P.; CHRISTUS Health; Welsh, Carson, Anderson & Stowe IX, L.P.
20130248 | G | Verizon Communications Inc.; Deutsche Telekom AG; Verizon Communications Inc.
20130249 | G | Deutsche Telekom AG; Verizon Communications; Deutsche Telekom AG.
20130251 | G | Adage Capital Partners, L.P.; Puma Biotechnology, Inc.; Adage Capital Partners, L.P.

FOR FURTHER INFORMATION CONTACT:

Renee Chapman, Contact Representative, or

Theresa Kingsberry, Legal Assistant,

Federal Trade Commission,

Premerger Notification Office,

Bureau of Competition,

Room H-303,

Washington, DC 20580,

(202) 326-3100.

By Direction of the Commission.
Donald S. Clark,
Secretary.

[FR Doc. 2012-29906 Filed 12-11-12; 8:45 am]

BILLING CODE 6750-01-M